DEPARTMENT OF TRANSPORTATION

Federal Aviation Administration

14 CFR Part 39

[Docket No. FAA-2009-0786; Directorate Identifier 2009-NM-145-AD; Amendment 39-16014; AD 2009-18-18]

RIN 2120-AA64

Airworthiness Directives; ATR Model ATR42 and ATR72 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

A recent event occurred during which the LH [left-hand] forward side glass window of an ATR 72-212 aeroplane blew out while performing a ground pressure test.

The investigation revealed some anomalies on the forward side window at the level of the Z-bar on the windows external side and at the level of the inner retainer on the windows internal side. These anomalies are considered as precursors of this failure.

* * * * *

An in-flight loss of a forward side window could have catastrophic consequences for the aeroplane and/or cause injuries to people on the ground. The loss of the forward side window while the aeroplane is on the ground with a positive differential cabin pressure could also cause injuries to people inside or around the aeroplane.

* * * * *

This AD requires actions that are intended to address the unsafe condition described in the MCAI.

DATES: This AD becomes effective September 24, 2009.

The Director of the Federal Register approved the incorporation by reference of a certain publication listed in the AD as of September 24, 2009.

We must receive comments on this AD by October 9, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tom Rodriguez, International Branch, ANM-116, Transport Airplane Directorate, FAA, 1601 Lind Avenue, SW., Renton, Washington 98057-3356; telephone (425) 227-1137; fax (425) 227-1149.

SUPPLEMENTARY INFORMATION:

Discussion

The European Aviation Safety Agency (EASA), which is the Technical Agent for Member States of the European Community, has issued EASA Emergency Airworthiness Directive 2009-0159-E, dated July 20, 2009 (referred to after this as “the MCAI”), to correct an unsafe condition for the specified products. The MCAI states:

A recent event occurred during which the LH [left-hand] forward side glass window of an ATR 72-212 aeroplane blew out while performing a ground pressure test.

The investigation revealed some anomalies on the forward side window at the level of the Z-bar on the windows external side and at the level of the inner retainer on the windows internal side. These anomalies are considered as precursors of this failure.

Air or water leakages between the Z-bar and the outer glass ply, or between the inner retainer and inner glass ply indicates the presence of deteriorating structural components in the window.

It must also be noticed that neither ATR nor PPG Aerospace authorizes repairs on the window Z-bar/Z-bar sealant.

Any attempted repairs on these forward side window Z-bars/Z-bar sealants could lead to a similar event that has originated this AD.

An in-flight loss of a forward side window could have catastrophic consequences for the aeroplane and/or cause injuries to people on the ground. The loss of the forward side window while the aeroplane is on the ground with a positive differential cabin pressure could also cause injuries to people inside or around the aeroplane.

Accordingly, this AD mandates initial and repetitive inspections of LH and RH [right-hand] cockpit forward side glass windows and in case of discrepancies, the replacement of the window(s).

Remark: Acrylic-based cockpit forward side windows are not concerned by this AD.

You may obtain further information by examining the MCAI in the AD docket.

Relevant Service Information

PPG Aerospace has issued Service Bulletin NP-158862-001, dated July 8, 2009. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because an in-flight loss of a forward side window could have catastrophic consequences for the airplane or cause injuries to people on the ground. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2009-0786; Directorate Identifier 2009-NM-145-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-18-18 ATR—GIE Avions De Transport Régional (Formerly Aerospatiale): Amendment 39-16014. Docket No. FAA-2009-0786; Directorate Identifier 2009-NM-145-AD.

Effective Date

(a) This airworthiness directive (AD) becomes effective September 24, 2009.

Affected ADs

(b) None.

Applicability

(c) This AD applies to ATR Model ATR42-200, -300, -320, and -500 airplanes and Model ATR72-101, -201, -102, -202, -211, -212, and -212A airplanes; certificated in any category; that are equipped with any PPG Aerospace cockpit forward side glass window having part number (P/N) NP-158862-1 or NP-158862-2.

Subject

(d) Air Transport Association (ATA) of America Code 56: Windows.

Reason

(e) The mandatory continued airworthiness information (MCAI) states:

A recent event occurred during which the LH [left-hand] forward side glass window of an ATR 72-212 aeroplane blew out while performing a ground pressure test.

The investigation revealed some anomalies on the forward side window at the level of the Z-bar on the windows external side and at the level of the inner retainer on the windows internal side. These anomalies are considered as precursors of this failure.

Air or water leakages between the Z-bar and the outer glass ply, or between the inner retainer and inner glass ply indicates the presence of deteriorating structural components in the window.

It must also be noticed that neither ATR nor PPG Aerospace authorizes repairs on the window Z-bar/Z-bar sealant.

Any attempted repairs on these forward side window Z-bars/Z-bar sealants could lead to a similar event that has originated this AD.

An in-flight loss of a forward side window could have catastrophic consequences for the aeroplane and/or cause injuries to people on the ground. The loss of the forward side window while the aeroplane is on the ground with a positive differential cabin pressure could also cause injuries to people inside or around the aeroplane.

Accordingly, this AD mandates initial and repetitive inspections of LH and RH [right-hand] cockpit forward side glass windows and in case of discrepancies, the replacement of the window(s).

Remark: Acrylic-based cockpit forward side windows are not concerned by this AD.

Actions and Compliance

(f) Unless already done, do the following actions.

(1) Prior to the accumulation of 2,000 total flight cycles on any cockpit forward side window, or within 10 days after the effective date of this AD, whichever occurs later, inspect for damage and absence of repair of the cockpit forward side windows, in accordance with the Accomplishment Instructions of PPG Aerospace Service Bulletin NP-158862-001, dated July 8, 2009. If the total flight cycles on a given cockpit forward side window installed on an airplane cannot be established, the total flight cycles accumulated on the airplane must be used in determining the initial inspection time for the cockpit forward side window.

(i) If any discrepant condition, as defined in PPG Aerospace Service Bulletin NP-158862-001, dated July 8, 2009, is found: Replace the window, in accordance with a method approved by the Manager, ANM-116, International Branch, Transport Airplane Directorate, FAA, or EASA (or its delegated agent), before further pressurized flight or within 10 days after the inspection, whichever occurs first.

Note 1: Guidance on replacing windows may be found in ATR (ATR42) Aircraft Maintenance Manual (AMM) Job Instruction Card (JIC) 56-12-00 RAI 10000-011, dated February 2008; and ATR ATR72 AMM JIC 56-12-00 RAI 10000-001, dated April 2008.

Note 2: Guidance on unpressurized flight conditions and limitations may be found in Section 21-30-1, dated February 2008, of the ATR Master Minimum Equipment List; and Section 21-30-1, dated February 2008, of the ATR Dispatch Deviation Guide.

(ii) If one of the conditions identified in paragraphs (f)(1)(ii)(a), (f)(1)(ii)(b), and (f)(1)(ii)(c) of this AD is found: Within 50 flight cycles or 7 days after the inspection required by paragraph (f)(1) of this AD, whichever occurs later, repeat the inspection required in paragraph (f)(1) of this AD. Re-inspect at intervals not to exceed 50 flight cycles or 7 days, whichever occurs later. When any discrepant condition, as defined in PPG Aerospace Service Bulletin NP-158862-001, dated July 8, 2009, is found: Replace the window, in accordance with a method approved by the Manager, ANM-116, International Branch, Transport Airplane Directorate, FAA, or EASA (or its delegated agent), before further pressurized flight or within 10 days after the inspection, whichever occurs first.

(a) Sealant separation between the Z-bar and the outer glass ply, with depth less than or equal to 4 mm (0.160 in).

(b) Sealant separation between inboard retainer and inner glass ply, with depth less than or equal to 7.5 mm (0.300 in) and cumulative length less than or equal to 300 mm (12.000 in).

(c) Window showing both sealant separation between the Z-bar and the outer ply, and separation between inboard retainer and inner glass ply, common to the same hole location with a length less than or equal to 225 mm (8.860 in), and not covering the entire arc of a window corner.

(iii) If no discrepancy is found: Re-inspect the cockpit forward side windows at intervals not to exceed 550 flight hours, in accordance with the Accomplishment Instructions of PPG Aerospace Service Bulletin NP-158862-001, dated July 8, 2009. When any discrepant condition, as defined in PPG Aerospace Service Bulletin NP-158862-001, dated July 8, 2009, is found: Replace the window, in accordance with a method approved by the Manager, ANM-116, International Branch, Transport Airplane Directorate, FAA, or EASA (or its delegated agent), before further pressurized flight or within 10 days after the inspection, whichever occurs first.

(2) Within 30 days after any inspection when damage or a discrepancy is found or within 30 days after the effective date of this AD, whichever occurs later, submit a detailed report of the findings to ATR in accordance with PPG Aerospace Service Bulletin NP-158862-001, dated July 8, 2009.

FAA AD Differences

Note 3: This AD differs from the MCAI and/or service information as follows: No Differences.

Other FAA AD Provisions

(g) The following provisions also apply to this AD:

(1) Alternative Methods of Compliance (AMOCs): The Manager, ANM-116, International Branch. Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

(4) Special Flight Permits: We are permitting special flight permits provided that the airplane is unpressurized during flight.

Related Information

(h) Refer to MCAI European Aviation Safety Agency (EASA) Emergency Airworthiness Directive 2009-0159-E, dated July 20, 2009; and PPG Aerospace Service Bulletin NP-158862-001, dated July 8, 2009; for related information.

Material Incorporated by Reference

(i) You must use PPG Aerospace Service Bulletin NP-158862-001, dated July 8, 2009, to do the actions required by this AD, unless the AD specifies otherwise.

(1) The Director of the Federal Register approved the incorporation by reference of this service information under 5 U.S.C. 552(a) and 1 CFR part 51.

(2) For service information identified in this AD, contact PPG Aerospace, 12780 San Fernando Road, Sylmar, California 91342; telephone 818-362-6711; fax 818-362-0603; Internet http://corporateportal.ppg.com/na/aerospace.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on August 26, 2009.
Ali Bahrami,
Manager, Transport Airplane Directorate, Aircraft Certification Service.

[FR Doc. E9-21312 Filed 9-8-09; 8:45 am]

BILLING CODE 4910-13-P